DEPARTMENT OF THE INTERIOR

National Park Service

National Park System Advisory Board; Meeting

AGENCY: National Park Service, Interior.

ACTION: Notice of meeting.

SUMMARY: Notice is hereby given in accordance with the Federal Advisory Committee Act, 5 U.S.C. Appendix, that the National Park System Advisory Board will meet September 15-16, 2010, in Washington, DC. The Board will have an orientation session on the morning of September 15, and in the afternoon will tour park sites in the National Capital Region. On September 16, the Board will convene its business meeting from 8:30 a.m., to 4 p.m.

DATES: September 15-16, 2010.

Location: The Dupont Hotel, meeting room Glover Park A, 1500 New Hampshire Avenue, NW.; Washington, DC 20036; 202-448-3848.

FOR FURTHER INFORMATION CONTACT: For further information concerning the National Park System Advisory Board or to request to address the Board, contact Ms. Shirley Sears Smith, Office of Policy, National Park Service, 1201 I Street, NW., 12th Floor, Washington, DC 20005; telephone 202-354-3955; e-mail Shirley_S_Smith@nps.gov.

SUPPLEMENTARY INFORMATION: On September 15, the Board will convene from 8:30 a.m. to 1:15 p.m., for an orientation session for Board members, followed by a tour of national park sites of the National Capital Region. The Board will convene its business meeting on September 16, at 8:30 a.m., and adjourn at 4 p.m. During the course of the two days, the Board expects to be addressed by Secretary of the Interior Ken Salazar and National Park Service Director Jonathan Jarvis, and will be briefed by park officials on matters including education, science, funding, and public engagement. Other officials of the Department of the Interior and the National Park Service may address the Board, and other miscellaneous topics and reports may be covered.

The Board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, e-mail address, or other personal identifying information in your comment, you should be aware that your entire comment—including your personal identifying information—may be made publicly available at any time. While you can ask us in your comment to withhold your personal identifying information from public review, we cannot guarantee that we will be able to do so.

Draft minutes of the meeting will be available for public inspection about 12 weeks after the meeting, at 1201 I Street, NW., Washington, DC 20005.

Dated: August 25, 2010.
Bernard Fagan,
Chief, Office of Policy.

[FR Doc. 2010-21552 Filed 8-27-10; 8:45 am]

BILLING CODE 4310-70-P